DEPARTMENT OF THE INTERIOR

Bureau of Land Management

[NM-910-01-1020-PG]

New Mexico Resource Advisory council meeting

AGENCY: Bureau of Land Management, Department of the Interior.

ACTION: Notice of Council Meeting.

SUMMARY: In accordance with the Federal Land Policy and Management Act and the Federal Advisory Committee Act of 1972 (FACA), 5 U.S.C. Appendix 1, the Department of the Interior, Bureau of Land Management (BLM), announces a meeting of the New Mexico Resource Advisory Council (RAC). New Mexico RAC meetings are planned in conjunction with the representative of the Governor of the State of New Mexico; the Office of the Lieutenant Governor.

DATES: The meeting will be held on April 25-26, 2002, with an optional Field Trip preceding on Wednesday, April 24. The meeting will begin at 8:00 a.m. and end by 5 p.m. both days.

ADDRESS: The meeting will take place at the Roswell Field Office, 2909 W. Second, Roswell, New Mexico.

Agenda

The draft agenda for the RAC meeting on Thursday, April 25, includes agreement on the meeting agenda, any RAC comments on the draft minutes of the last RAC meeting which was held on February 28 and March 1, 2002, in Albuquerque, New Mexico, and a check-in from the RAC members. Main topics of discussion will be BLM's overview and policy on oil and gas reclamation, industry issues and practices on oil and gas reclamation, and noxious weeds in disturbed areas. The three established RAC subcommittees may have late afternoon or evening meetings on Wednesday, April 24 or on Thursday, April 25. The exact time and location of possible subcommittee meetings will be established by the chairperson of each subcommittee and be available to the public at the front desk of the Roswell Field Office on those two days. The meeting is open to the public. Starting at 11:30 a.m. on Thursday, April 25, there will be an additional 15 minute Public Comment Period for members of the public who are not able to be present to address the RAC during the regular two hour Public Comment Period on Friday, April 26, from 10 a.m to 12 noon. The RAC may reduce or extend the end time of 12:00 noon depending on the number of people wishing to address the RAC. A RAC assessment of the current meeting and development of draft agenda items and selection of a location for the next RAC meeting will take place Friday afternoon. On Friday, April 26, the ending time of the meeting may be changed depending on the work remaining for the RAC.

FOR FURTHER INFORMATION CONTACT: Theresa Herrera, New Mexico State Office, Office of External Affairs, Bureau of Land Management, 1474 Rodeo Road, P.O. Box 27115, Santa Fe, New Mexico 87502-0115, telephone (505) 438-7517.

SUPPLEMENTARY INFORMATION: The purpose of the RAC is to advise the Secretary of the Interior, through the BLM, on a variety of planning and management issues associated with the management of public lands. The Council's responsibilities include providing advice on long-range planning, establishing resource management priorities and assisting the BLM to identify State and regional standards for rangeland health and guidelines for grazing management.

Carsten F. Goff,
Acting State Director.

[FR Doc. 02-7843 Filed 4-1-02; 8:45 am]

BILLING CODE 4310-FB-P